DEPARTMENT OF COMMERCE

Patent and Trademark Office

Agency Information Collection Activities; Submission to the Office of Management and Budget (OMB) for Review and Approval; Comment Request; Recording Assignments

AGENCY: United States Patent and Trademark Office, Department of Commerce.

ACTION: Notice of information collection; request for comment.

SUMMARY: The United States Patent and Trademark Office (USPTO), as required by the Paperwork Reduction Act of 1995, invites comments on the extension and revision of an existing information collection: 0651-0027 (Recording Assignments). The purpose of this notice is to allow 60 days for public comment preceding submission of the information collection to OMB.

DATES: To ensure consideration, comments regarding this information collection must be received on or before August 16, 2024.

ADDRESSES: Interested persons are invited to submit written comments by any of the following methods. Do not submit Confidential Business Information or otherwise sensitive or protected information.

• Email: InformationCollection@uspto.gov. Include “0651-0027 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Joyce R. Johnson, Manager, Assignment Division, United States Patent and Trademark Office, P.O. Box 1450, Alexandria, VA 22313-1450; by telephone at 703-756-1265 or by email at Joyce.Johnson@uspto.gov with “0651-0027 comment” in the subject line. Additional information about this information collection is also available at http://www.reginfo.gov under “Information Collection Review.”

SUPPLEMENTARY INFORMATION:

I. Abstract

This collection of information is required by 35 U.S.C. 261 and 262 for patents and 15 U.S.C. 1057 and 1060 for trademarks. These statutes authorize the United States Patent and Trademark Office (USPTO) to record patent and trademark assignment documents, including transfers of properties (i.e., patents and trademarks), liens, licenses, assignments of interest, security interests, mergers, and explanations of transactions or other documents that record the transfer of ownership of a particular patent or trademark property from one party to another. Assignments are recorded for applications, patents, and trademark registrations.

The USPTO administers these statutes through 37 CFR 2.146, 2.171, and 37 CFR part 3. These regulations permit the public, corporations, other federal agencies, and government-owned or government-controlled corporations to submit patent and trademark assignment documents and other documents related to title transfers to the USPTO to be recorded. In accordance with 37 CFR 3.54, the recording of an assignment document by the USPTO is an administrative action and not a determination of the validity of the document or of the effect that the document has on the title to an application, patent, or trademark.

Once the assignment documents are recorded, they are available for public inspection. The only exceptions are those documents that are sealed under secrecy orders according to 37 CFR 3.58, or related to unpublished patent applications maintained in confidence under 35 U.S.C. 122 and 37 CFR 1.14. The public uses these records to conduct ownership and chain-of-title searches. The public may view these records either at the USPTO Public Search Facility or at the National Archives and Records Administration, depending on the date they were recorded. The public may also search patent and trademark assignment information online through the USPTO website.

This information collection covers the recordation of patent and trademark assignments. In order to record an assignment, the respondent must submit an assignment document along with the appropriate cover sheet. The USPTO provides two forms for this purpose, the Recordation Form Cover Sheet—Trademarks Only (PTO-1594), and the Recordation Form Cover Sheet—Patents Only (PTO-1595), which capture all of the necessary data for accurately recording various assignments. Customers may submit assignments electronically by using Assignment Center, which is available on the USPTO website.¹ This system allows customers to fill out the required cover sheet information online using web-based forms and then attach the assignment documents to be submitted for recordation. The USPTO also provides paper forms that may be used to record an assignment. These forms may be downloaded in PDF format from the USPTO website.²

¹ https://assignmentcenter.uspto.gov.

² https://www.uspto.gov/forms/pto1595.pdf and https://www.uspto.gov/sites/default/files/pto1594.pdf, respectively.

II. Method of Collection

The items in this information collection can be submitted electronically, or in paper form by mail or fax.

III. Data

OMB Control Number: 0651-0027.

Forms:

• PTO-1594 (Recordation Form Cover Sheet—Trademarks Only)

• PTO-1595 (Recordation Form Cover Sheet—Patents Only)

Type of Review: Extension and revision of a currently approved information collection.

Affected Public: Private sector.

Respondent's Obligation: Required to obtain or retain benefits.

Estimated Number of Annual Respondents: 724,442 respondents.

Estimated Number of Annual Responses: 724,442 responses.

Frequency: On occasion.

Estimated Time per Response: The USPTO estimates that the responses in this information collection will take the public approximately 30 minutes (0.5 hours) to complete. This includes the time to gather the necessary information, create the document, and submit the completed request to the USPTO.

Estimated Total Annual Respondent Burden Hours: 362,222 hours.

Estimated Total Annual Respondent Hourly Cost Burden: $103,233,270.

Table 1—Total Burden Hours and Hourly Costs to Private Sector Respondents
Item No. | Item | Estimated annual respondents | Responses per respondent | Estimated annual responses | Estimated time for response (hours) | Estimated annual burden (hours/year) | Rate ³ ($/hour) | Estimated annual burden
|  | (a) | (b) | (a) × (b) = (c) | (d) | (c) × (d) = (e) | (f) | (e) × (f) = (g)
1 | Patent Assignments | 637,311 | 1 | 637,311 | 0.5 (30 minutes) | 318,656 | $285 | $90,816,960
2 | Trademark Assignments | 87,131 | 1 | 87,131 | 0.5 (30 minutes) | 43,566 | 285 | 12,416,310
| Totals | 724,442 |  | 724,442 |  | 362,222 |  | 103,233,270

Estimated Total Annual Respondent Non-hourly Cost Burden: $9,148,303. There are no capital start-up costs, maintenance costs, or recordkeeping costs associated with this information collection. However, the USPTO estimates that the total annual non-hour cost burden for this information collection, in the form of filing fees and postage, is $9,148,303.

³ In this information collection the USPTO uses an average of the rates for intellectual property attorneys and paralegals/paraprofessionals. The USPTO uses the average billing rate for intellectual property work in all firms, which is $447 per hour (https://www.aipla.org/home/news-publications/economic-survey. 2023 Report of the Economic Survey, published by the Committee on Economics of Legal Practice of the American Intellectual Property Law Association (AIPLA); pg. F-41.). The USPTO uses the average billing rate for paralegals/paraprofessionals, which is $122 per hour (https://nala.org/paralegal-info/). 2022 National Utilization and Compensation Survey Report published by the National Association of Legal Assistants (NALA); pg. 38.

Filing Fees

The filing fees in this information collection are listed in the table below.

Table 2—Filing Fees
Item No. | Fee code | Item | Estimated annual responses | Estimated cost | Estimated non-hour cost burden
|  |  | (a) | (b) | (a) × (b) = (c)
1 | 8021 | Recording each patent assignment, agreement or other paper, per property—if not submitted electronically | 214 | $50 | $10,700
2 | 8521 | Recording trademark assignment, agreement or other ownership document, first mark per document | 87,131 | 40 | 3,485,240
2 | 8522 | Recording trademark assignment, agreement or other ownership document, second and subsequent marks in the same document | 226,081 | 25 | 5,652,025
|  | Totals | 313,426 |  | 9,147,965

Postage Costs

Although the USPTO prefers that the items in this information collection be submitted electronically, responses may be submitted by mail through the United States Postal Service (USPS). The USPTO estimates that approximately 243 items will be submitted in the mail. The USPTO estimates that the average postage cost for a mailed submission, using a one-ounce large flat envelope mailed First Class, will be $1.39. Therefore, the USPTO estimates the total mailing costs for this information collection at $338.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-13275 Filed 6-14-24; 8:45 am]

BILLING CODE 3510-16-P